POSTAL SERVICE

Sunshine Act Meeting

Times and Dates: 11:30 a.m., Thursday, September 5, 2002; 8:30 a.m., Friday, September 6, 2002.

Place: Washington, DC, at U.S. Postal Service Headquarters, 475 L'Enfant Plaza, SW., in the Benjamin Franklin Room.

Status: September 5—11:30 a.m. (Closed); September 6-8:30 a.m. (Open).

Matters to be Considered:

Thursday, September 5-11:30 a.m. (Closed)

1. Financial Reporting.

2. Strategic Planning.

3. Fiscal Year 2003 Integrated Financial Plan.

4. Office of Inspector General Fiscal Year 2003 Budget.

5. Proposed Postal Rate Commission Filings for Targeted Pricing Initiatives.

6. Personel Matters and Compensation Issues.

Friday, September 6—8:30 a.m. (Open)

1. Minutes of the Previous Meeting, August 5-6, 2002.

2. Remarks of the Postmaster General and CEO.

Friday, September 6—8:30 a.m. (Open) [continued]

3. Postal Rate Commission Fiscal Year 2003 Budget.

4. Fiscal Year 2002 Borrowing Resolution.

5. Fiscal Year 2003 Annual Performance Plan—Government Performance and Results Act.

6. Fiscal Year 2003 Operating and Financing Plan.

7. Fiscal Year 2003 Capital Investment Plan.

8. Preliminary Fiscal Year 2004 Appropriation Request.

9. Capital Investments.

a. General Ledger System Replacement.

b. Mixed Delivery and Collection Vehicles.

c. Office of Inspector General—Office Space Additional Funding Request.

d. 76 Automated Package Processing Systems.

10. Tentative Agenda for the October 7-8, 2002, meeting in Memphis, Tennessee.

Contact Person for More Information: William T. Johnstone, Secretary of the Board, U.S. Postal Service, 475 L'Enfant Plaza, SW., Washington, DC 20260-1000. Telephone (202) 268-4800.

William T. Johnstone,
Secretary.

[FR Doc. 02-22364 Filed 8-28-02; 2:15 pm]

BILLING CODE 7710-12-M